FEDERAL HOUSING FINANCE BOARD

Correction; Sunshine Act Meeting Notice; Announcing a Partially Open Meeting of the Board of Directors

Time and Date: The open meeting of the Board of Directors is scheduled to begin at 10 am on Wednesday, June 14, 2006. The closed portion of the meeting will follow immediately the open portion of the meeting.

Place: Board Room, First Floor, Federal Housing Finance Board, 1625 Eye Street, NW., Washington DC 20006.

Status: The first portion of the meeting will be open to the public. The final portion of the meeting will be closed to the public.

Matters To Be Considered at the Open Portion: Financing Corporation 2006 Supplemental Budget Request. Consideration of the Financing Corporation (FICO) request to increase its 2006 budget to cover unanticipated legal expenses.

Data Reporting Reorganization. Consideration of a final rule that would move certain data reporting requirements from regulation to the Data Reporting Manual.

Matter To Be Considered at the Closed Portion: Periodic Update of Examination Program Development and Supervisory Findings.

Contact Person for More Information: Shelia Willis, Paralegal Specialist, Office of General Counsel, at 202-408-2876 or williss@fhfb.gov.

Dated: June 7, 2006.
By the Federal Housing Finance Board.
John P. Kennedy,
General Counsel.

[FR Doc. 06-5318 Filed 6-8-06; 8:45 am]

BILLING CODE 6725-01-P